DEPARTMENT OF HOMELAND SECURITY

Coast Guard

33 CFR Part 117

[CGD07-06-048]

Drawbridge Operation Regulations; Stickney Point (SR 72), Gulf Intracoastal Waterway, Mile 68.6, Sarasota County, FL

AGENCY: Coast Guard, DHS.

ACTION: Notice of temporary deviation from regulations.

SUMMARY: The Commander, Seventh Coast Guard District, has approved a temporary deviation from the regulations governing the operation of the Stickney Point (SR 72) Bridge, Gulf Intracoastal Waterway, mile 68.6, Sarasota County, Florida. This temporary deviation allows the Coast Guard to test an operating schedule with the bridge opening as necessary on the hour, twenty minutes past the hour and forty minutes past the hour, from 6 a.m. to 10 p.m., Monday through Friday, except Federal holidays. At all other times the bridge will open upon demand. This temporary deviation will allow the Coast Guard to gather data to determine if this schedule meets the reasonable needs of navigation while accommodating vehicle traffic and whether it should be proposed as a permanent change.

DATES: This deviation is effective from 6 a.m. on April 24, 2006 until 10 p.m. on July 21, 2006.

ADDRESSES: Material received from the public, as well as documents indicated in this preamble as being available in the docket [CGD07-06-048] will become part of this docket and will be available for inspection or copying at Commander (dpb), Seventh Coast Guard District, 909 S.E. 1st Avenue, Room 432, Miami, Florida 33131-3050 between 7:30 a.m. and 4 p.m., Monday through Friday, except Federal Holidays.

FOR FURTHER INFORMATION CONTACT: Mr. Barry Dragon, Project Officer, Seventh Coast Guard District, Bridge Branch at (305) 415-6743.

SUPPLEMENTARY INFORMATION: The Stickney Point Bridge (SR 72), Gulf Intracoastal Waterway, mile 68.6, Sarasota County, Florida, is a double-leaf bascule bridge with a vertical clearance of 18 feet above mean high water (MHW) measured at the fenders in the closed position with a horizontal clearance of 90 feet. The current operating regulation in 33 CFR 117.5 requires that the bridge shall open on signal.

The County of Sarasota requested a deviation from the current operating regulations to allow the bridge to open as necessary on the hour, twenty minutes past the hour and forty minutes past the hour from 6 a.m. to 10 p.m., Monday through Friday, except Federal holidays, in order to relieve vehicular traffic delays. In light of the foregoing, the Commander, Seventh Coast Guard District, has granted a temporary deviation from the operating requirements listed in 33 CFR 117.5 to test the 20-minute schedule. Under this deviation, the Stickney Point (SR 72) Bridge, Gulf Intracoastal Waterway, mile 68.6, Sarasota County, Florida shall open as necessary on the hour, twenty minutes past the hour and forty minutes past the hour from 6 a.m. to 10 p.m., Monday through Friday, except Federal holidays, April 24 through July 21, 2006. At all other times the bridge will open upon demand.

Dated: March 14, 2006.
Greg Shapley,
Chief, Bridge Administration, Seventh Coast Guard District.

[FR Doc. 06-3176 Filed 3-31-06; 8:45 am]

BILLING CODE 4910-15-P